DEPARTMENT OF THE INTERIOR

National Park Service

Notice of November 7, 2009 Meeting for Flight 93 National Memorial Advisory Commission

AGENCY: National Park Service, Interior.

ACTION: Notice of November 7, 2009 meeting for Flight 93 National Memorial Advisory Commission.

SUMMARY: This notice sets the date of the November 7, 2009 meeting of the Flight 93 Advisory Commission.

DATES: The public meeting of the Advisory Commission will be held on Saturday, November 7, 2009 from 10 a.m. to 1 p.m. (Eastern). The Commission will meet jointly with the Flight 93 Memorial Task Force.

Location: The meeting will be held at the Somerset County Courthouse, Court Room #1, located at 111 E. Union Street, Somerset, PA 15501.

Agenda: The November 7, 2009 joint Commission and Task Force meeting will consist of the following:

1. Opening of Meeting and Pledge of Allegiance.

2. Review and Approval of Commission Minutes from August 1, 2009.

3. Reports from the Flight 93 Memorial Task Force and National Park Service.

4. Old Business.

5. New Business.

6. Public Comments.

7. Closing Remarks.

FOR FURTHER INFORMATION CONTACT: Joanne M. Hanley, Superintendent, Flight 93 National Memorial, 109 West Main Street, Somerset, PA 15501, 814-443-4557.

SUPPLEMENTARY INFORMATION: The meeting will be open to the public. Any member of the public may file with the Commission a written statement concerning agenda items. Address all statements to: Flight 93 Advisory Commission, 109 West Main Street, Somerset, PA 15501.

Joanne M. Hanley,
Superintendent, Flight 93 National Memorial.

[FR Doc. E9-23700 Filed 10-2-09; 8:45 am]

BILLING CODE 4312-25-P